DEPARTMENT OF ENERGY

Federal Energy Regulatory Commission

Combined Notice of Filings #2

Take notice that the Commission received the following electric rate filings:

Docket Numbers: ER10-1946-011; ER11-3861-011; ER10-3310-009; ER10-3286-009; ER10-3299-008; ER13-1485-005; ER10-3253-005; ER14-1777-004; ER10-3237-005; ER10-3240-005; ER10-3230-005; ER10-3231-004; ER15-2722-001; ER10-3232-003; ER10-3233-004; ER10-3239-005; ER14-2871-006; ER10-3243-008; ER10-3244-008; ER10-3245-007; ER10-3249-007; ER10-3250-007; ER10-3251-006; ER14-2382-006; ER15-621-005; ER11-2639-007; ER15-622-005; ER15-463-005; ER15-110-005; ER13-1586-007; ER10-1992-013.

Applicants: Broad River Energy LLC, Empire Generating Co, LLC, New Harquahala Generating Company, LLC, Millennium Power Partners, L.P., New Athens Generating Company, LLC, Wheelabrator Baltimore, L.P., Wheelabrator Bridgeport, L.P., Wheelabrator Falls Inc., Wheelabrator Frackville Energy Company Inc., Wheelabrator North Andover Inc., Wheelabrator Portsmouth Inc., Wheelabrator Ridge Energy Inc., Wheelabrator Saugus Inc., Wheelabrator Shasta Energy Company Inc., Wheelabrator South Broward Inc., Wheelabrator Westchester, L.P., Cameron Ridge, LLC, Chandler Wind Partners, LLC, Coso Geothermal Power Holdings, LLC, Foote Creek II, LLC, Foote Creek III, LLC, Foote Creek IV, LLC, Oak Creek Wind Power, LLC, ON Wind Energy LLC, Pacific Crest Power, LLC, Ridge Crest Wind Partners, LLC, Ridgetop Energy, LLC, San Gorgonio Westwinds II, LLC, Terra-Gen Energy Services, LLC, TGP Energy Management, LLC, Victory Garden Phase IV, LLC.

Description: Notice of Change in Status of the ECP MBR Sellers.

Filed Date: 10/1/15.

Accession Number: 20151001-5337.

Comments Due: 5 p.m. ET 10/22/15.

Docket Numbers: ER13-1860-001.

Applicants: Nevada Power Company.

Description: Compliance filing: Service Agreement No. 15-00049/50/51/52 NPC-Cargill Offer/Settlement to be effective 12/15/2015.

Filed Date: 10/1/15.

Accession Number: 20151001-5338.

Comments Due: 5 p.m. ET 10/22/15.

Docket Numbers: ER16-10-000.

Applicants: NRG Chalk Point CT LLC.

Description: Baseline eTariff Filing: Application for Market-Based Rate Authorization to be effective 11/30/2015.

Filed Date: 10/1/15.

Accession Number: 20151001-5335.

Comments Due: 5 p.m. ET 10/22/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2015.
Nathaniel J. Davis, Sr.,
Deputy Secretary.

[FR Doc. 2015-25515 Filed 10-6-15; 8:45 am]

BILLING CODE 6717-01-P